DEPARTMENT OF DEFENSE

Department of the Air Force

Proposed Collection; Comment Request

AGENCY: Department of the Air Force, DoD.

ACTION: Notice.

In compliance with section 3506(c)(2)(A) of the Paperwork Reduction Act of 1995, the Air Force Research Laboratory announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received July 23, 2001.

ADDRESSES: Written comments and recommendations on the proposed information collection should be sent to Air Force Research Laboratory, Office of Public Affairs, AFRL/PA, 1864 4th Street, Room 004, Wright-Patterson Air Force Base, OH 45433.

FOR FURTHER INFORMATION CONTACT: To request more information on this proposed information collection or to obtain a copy of the proposal and associated collection instruments, please write to the above address, or call Air Force Research Laboratory, Office of Public Affairs at 937-656-9876.

TITLE: Air Force Research Laboratory Public Awareness Survey.

Needs and Uses: Air Force Research Laboratory has taken on a major effort to educate and communicate to the public contributions the Research Laboratory plays in developing the Air Force of the future. As such, it is imperative the Research Laboratory understands the current level of information the average Air Force member has regarding the laboratory's contributions. With this information, the Air Force Research Laboratory will be better able to develop communication strategies for the Air Force Research Laboratory to employ with the public.

Affected Public: Individuals and households residents (18 years and older) of telephone-equipped households in the U.S. not including Alaska and Hawaii.

Annual Burden Hours: 36.75.

Number of Respondents: 882 Called by phone.

Responses per Respondent: 1.

Average Burden per Response: 5 Minutes.

Frequency: At 2-year intervals.

SUPPLEMENTARY INFORMATION:

Summary of Information Collection

This survey will serve multiple purposes. It will gauge the American public's awareness of, familiarity with, attitudes about and feelings toward the Air Force Research Laboratory. It will also gauge where the American public would go for information regarding the Air Force Research Laboratory. The survey asks what they currently know about the laboratory and notes some discoveries and projects the lab has worked and whether these are familiar to the American public or not. The survey also asks if they are familiar with the publications and products of the laboratory and asks how satisfied they are with these products. The survey will allow for comparisons of data to better target communication efforts to effectively communicate Air Force Research Laboratory information to the public. Findings from these surveys of the civilian population also will be compared with similar data to be gathered from the internal Air Force population at approximately the same time, providing a valuable head-to-head comparison of civilians' and Air Force people's perceptions of what the Air Force Research Laboratory does.

Janet A. Long,
Air Force Federal Register Liaison Officer.

[FR Doc. 01-12853 Filed 5-21-01; 8:45 am]

BILLING CODE 5001-05-P